DEPARTMENT OF COMMERCE

National Oceanic and Atmospheric Administration

RIN 0648-XF524

Fisheries of the South Atlantic; South Atlantic Fishery Management Council; Public Meeting

AGENCY: National Marine Fisheries Service (NMFS), National Oceanic and Atmospheric Administration (NOAA), Commerce.

ACTION: Notice of public meeting of the South Atlantic Fishery Management Council's Executive Finance Committee.

SUMMARY: The Executive Finance Committee will meet via webinar to discuss the Council Coordinating Committee (CCC) Working Paper, proposed legislation, the Fisheries Leadership and Sustainability Forum, and participation at Council meetings. Public comment will be accepted. See SUPPLEMENTARY INFORMATION.

DATES: The Executive Finance Committee will meet from 9 a.m. to 5 p.m. on Wednesday, July 26, 2017.

ADDRESSES:

Meeting address: The Executive Finance Committee meeting will be held via webinar. The webinar is open to members of the public. Registration is required. Registration information is available from the Council's Web site at: http://safmc.net/safmc-meetings/council-meetings/.

Council address: South Atlantic Fishery Management Council, 4055 Faber Place Drive, Suite 201, N. Charleston, SC 29405. www.safmc.net.

FOR FURTHER INFORMATION CONTACT: Mike Collins, Administrative Assistant, South Atlantic Fishery Management Council, 4055 Faber Place Drive, Suite 201, North Charleston, SC 29405; phone: (843) 571-4366 or toll free (866) SAFMC-10; fax: (843) 769-4520; email: mike.collins@safmc.net.

SUPPLEMENTARY INFORMATION: The meeting will be held via webinar. The meeting agenda other materials will be posted on the Council's Web site at http://safmc.net/safmc-meetings/council-meetings/ as they become available. Public comment on agenda items will be accepted at the beginning of the meeting following approval of the minutes.

The items of discussion are as follows:

1. Review and provide draft language for the CCC Working Paper addressing key issues being considered as part of the Magnuson-Stevens Fishery Conservation and Management Act reauthorization process.

2. Review and develop comments relative to H.R. 200—the Strengthening Fishing Communities and Increasing Flexibility in Fisheries Management Act and H.R. 2023—the Modernizing Recreational Fisheries Management Act of 2017 for Council consideration. The Committee will develop recommendations on other MSA-related bills if they become available prior to the meeting.

3. Discuss the Fisheries Leadership and Sustainability Forum and current issues. Develop recommendations supporting the Forum for Council consideration.

4. Review current participation of external organizations at Council meetings and provide recommendations for consideration by the Council.

Although non-emergency issues not contained on this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 5 business days prior to the meeting.

Note: The times and sequence specified in this agenda are subject to change.

Authority: 16 U.S.C.1801 et seq.

Dated: July 5, 2017.
Tracey L. Thompson,
Acting Deputy Director, Office of Sustainable Fisheries, National Marine Fisheries Service.

[FR Doc. 2017-14408 Filed 7-10-17; 8:45 am]

BILLING CODE 3510-22-P